ENVIRONMENTAL PROTECTION AGENCY

40 CFR Part 300

[FRL-7542-8]

National Oil and Hazardous Substances Pollution Contingency Plan; National Priorities List

AGENCY: Environmental Protection Agency.

ACTION: Notice of intent to partially delete the Monticello Mill Tailings (USDOE) Superfund Site from the National Priorities List.

SUMMARY: The Environmental Protection Agency (EPA) Region 8 is issuing a notice of intent to partially delete the Monticello Mill Tailings (USDOE) Superfund Site (the Site) located in Monticello, Utah, from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA has determined that all appropriate response actions under CERCLA, other than operation and maintenance and five-year reviews, have been completed. However, this partial deletion does not preclude future actions under Superfund. The State of Utah, through the Utah Department of Environmental Quality (UDEQ), concurs with the decision for partial deletion of the Site from the NPL provided that no adverse comments are received during the public comment period.

In the “Rules and Regulations” section of today's Federal Register, we are publishing a direct final notice of partial deletion of the Site without prior notice of intent to partially delete because we view this as a noncontroversial revision and anticipate no adverse comments. We have explained our reasons for this partial deletion in the preamble to the direct final partial deletion. If we receive no adverse comments on this notice of intent to partially delete or the direct final notice of partial deletion, we will not take further action on this notice of intent to partially delete. If we receive adverse comments, we will withdraw the direct final notice of partial deletion and it will not take effect. In such case, we will, as appropriate, address all public comments in a subsequent final partial deletion notice based on this notice of intent to partially delete. We will not institute a second comment period on this notice of intent to partially delete. Any parties interested in commenting must do so at this time. For additional information, see the direct final notice of partial deletion which is located in the “Rules and Regulations” section of this Federal Register.

DATES: Comments concerning this Site must be received by September 12, 2003.

ADDRESSES: Written comments should be addressed to: Mr. Paul Mushovic (8EPR-F), Remedial Project Manager, U.S. EPA Region 8, 999 18th Street, Suite 300, Denver, Colorado 80202-2466, mushovic.paul@epa.gov, (303) 312-6662 or 1-800-227-8917.

FOR FURTHER INFORMATION CONTACT: For information regarding Site deletion, contact Mr. Paul Mushovic (8EPR-F), Remedial Project Manager, U.S. EPA Region 8, 999 18th Street, Suite 300, Denver, Colorado 80202-2466, mushovic.paul@epa.gov, (303) 312-6662 or 1-800-227-8917. For other general Site information, contact Mr. Art Kleinrath, Program Manager, U.S. Department of Energy (DOE), 2597 B ¾ Road, Grand Junction, Colorado 81503, art.kleinrath@gjo.doe.gov, (970) 248-6037, or Mr. David Bird, Project Manager, State of Utah Department of Environmental Quality, 168 North 1950 West, Salt Lake City, Utah 84116, (801) 536-4219.

SUPPLEMENTARY INFORMATION: For additional information, see the Direct Final Notice of Partial Deletion which is located in the “Rules and Regulations” section of this Federal Register.

Information Repositories: Repositories have been established to provide detailed information concerning this decision at the following addresses: U.S. DOE Grand Junction Office Public Reading Room, 2597 B ¾ Road, Grand Junction, Colorado 81503, (970) 248-6089, Monday through Friday 7:30 a.m. to 4 p.m.; U.S. DOE Repository Site Office, 7031 South Highway 191, Monticello, Utah 84535, (435) 587-2098, Monday through Friday 8 a.m. to 5 p.m., or by appointment.

List of Subjects in 40 CFR Part 300

Environmental protection, Air pollution control, Chemicals, Hazardous waste, Hazardous substances, Intergovernmental relations, Penalties, Reporting and recordkeeping requirements, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: July 31, 2003.
Robert E. Roberts,
Regional Administrator, U.S. EPA Region 8.

[FR Doc. 03-20431 Filed 8-12-03; 8:45 am]

BILLING CODE 6560-50-P